DEPARTMENT OF EDUCATION

[Docket No.: ED-2025-SCC-0448]

Agency Information Collection Activities; Submission to the Office of Management and Budget for Review and Approval; Comment Request; Prison Education Program Accreditation Requirements

AGENCY: Office of Postsecondary Education (OPE), Department of Education (ED).

ACTION: Notice.

SUMMARY: In accordance with the Paperwork Reduction Act (PRA) of 1995, the Department is proposing a revision of a currently approved information collection request (ICR).

DATES: Interested persons are invited to submit comments on or before December 24, 2025.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Amy Wilson, 202-987-1318.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Prison Education Program Accreditation Requirements.

OMB Control Number: 1840-0863.

Type of Review: A revision of a currently approved ICR.

Respondents/Affected Public: Private Sector.

Total Estimated Number of Annual Responses: 21.

Total Estimated Number of Annual Burden Hours: 1,218.

Abstract: The Secretary establishes regulations for Federal Pell Grants (Pell Grants or Pell) for Prison Education Programs (PEPs), to implement the statutory requirements in the Consolidated Appropriations Act, 2021, that amend the Higher Education Act of 1965, as amended (HEA), to establish Pell Grant eligibility for a confined or incarcerated individual enrolled in a PEP. These regulations are a result of negotiated rulemaking and added new title IV regulations to especially in Subpart P of 34 CFR 668. The Consolidated Appropriations Act, 2021 added section 484(t) to the HEA to formally establish Pell Grant eligibility for confined or incarcerated individuals, as long as they are enrolled in a PEP as defined under the HEA. The regulations implement the statutory requirements allowing access to Federal Pell Grants for individuals who are confined or incarcerated when enrolled in programs that meet necessary standards.

This collection established the burden under regulations at 34 CFR 668.237—Accreditation requirements. These regulations prescribe program evaluation at the first two additional Prison Education Program (PEP) locations of a participating institution of higher education to ensure institutional ability to offer and implement the PEP in accordance with the accrediting agency's standards. The regulations require the accrediting agency to conduct a site visit no later than one year after the institution has initiated a PEP at its first two additional locations at correctional facilities. Additionally, the regulations require accrediting agencies to review the methodology used by an institution in determining the PEP meets the same standards for substantially similar non-PEP programs offered at the institution.

Ross Santy,
Chief Data Officer, Office of Planning, Evaluation and Policy Development.

[FR Doc. 2025-20680 Filed 11-21-25; 8:45 am]

BILLING CODE 4000-01-P